DEPARTMENT OF THE INTERIOR

Bureau of Reclamation

[RR83550000, 201R5065C6, RX.59389832.1009676]

Quarterly Status Report of Water Service, Repayment, and Other Water-Related Contract Actions

AGENCY: Bureau of Reclamation, Interior.

ACTION: Notice of contract actions.

SUMMARY: Notice is hereby given of contractual actions that have been proposed to the Bureau of Reclamation (Reclamation) and are new, discontinued, or completed since the last publication of this notice. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section of this notice.

FOR FURTHER INFORMATION CONTACT: Michelle Kelly, Reclamation Law Administration Division, Bureau of Reclamation, P.O. Box 25007, Denver, Colorado 80225-0007; mkelly@usbr.gov; telephone 303-445-2888.

SUPPLEMENTARY INFORMATION: Consistent with section 9(f) of the Reclamation Project Act of 1939, and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his or her designated public contact as they become available for review and comment.

7. In the event modifications are made in the form of a proposed contract, the appropriate regional director shall determine whether republication of the notice and/or extension of the comment period is necessary.

Factors considered in making such a determination shall include, but are not limited to, (i) the significance of the modification, and (ii) the degree of public interest which has been expressed over the course of the negotiations. At a minimum, the regional director will furnish revised contracts to all parties who requested the contract in response to the initial public notice.

Definitions of Abbreviations Used in the Reports

BCP Boulder Canyon Project

Reclamation Bureau of Reclamation

CAP Central Arizona Project

CUP Central Utah Project

CVP Central Valley Project

CRSP Colorado River Storage Project

EXM Emergency extraordinary maintenance

XM Extraordinary maintenance

FR Federal Register

IDD Irrigation and Drainage District

ID Irrigation District

M&I Municipal and Industrial

O&M Operation and Maintenance

OM&R Operation, Maintenance, and Replacement

P-SMBP Pick-Sloan Missouri Basin Program

SOD Safety of Dams

SRPA Small Reclamation Projects Act of 1956

USACE U.S. Army Corps of Engineers

WD Water District

Columbia-Pacific Northwest—Interior Region 9: Bureau of Reclamation, 1150 North Curtis Road, Suite 100, Boise, Idaho 83706-1234, telephone 208-378-5344.

New contract actions:

19. Roza ID, Yakima Project, Washington: Contract for use of water in dead space of Kachess Reservoir and construction of a pumping plant.

20. Quincy-Columbia Basin ID, Columbia Basin Project, Washington: Long-term contract to renew master water service contract No. 14-06-100-9166, as supplemented, to authorize the district to deliver project water to up to 10,000 First Phase Continuation Acres located within the district, and to deliver additional project water to land irrigated under the district's repayment contract during the peak period of irrigation water use annually.

Completed contract actions:

15. Yakima Nation and Cascade ID, Yakima Project, Washington: Long-term contract for an exchange of water and to authorize the use of capacity in Yakima Project facilities to convey up to 10 cubic feet per second of non-project water during the non-irrigation season for fish hatchery purposes. Contract executed on April 1, 2019.

17. Cascade ID, Yakima Project, Washington: Contract for Yakima Tribes use of Cascade ID's canal for Melvin R. Sampson Hatchery. Contract executed on April 1, 2019.

Discontinued contract action:

18. Bitter Root ID, Bitter Root Project, Montana: Amendment to SOD contract to extend repayment period.

California-Great Basin—Interior Region 10: Bureau of Reclamation, 2800 Cottage Way, Sacramento, California 95825-1898, telephone 916-978-5250.

New contract actions:

53. San Luis and Delta-Mendota Water Authority, CVP, California: Renewal of OM&R contract.

54. San Luis and Delta-Mendota Water Authority, CVP, California: Contract for repayment for XM and replacement funded pursuant to Subtitle G of Public Law 111-11.

55. City of West Sacramento, CVP, California: Negotiation and execution of a 40-year long-term water service contract.

Completed contract actions:

8. Casitas Municipal WD, Ventura Project, California: Repayment contract for SOD work on Casitas Dam. Contract executed on October 6, 2014.

13. Delta Lands Reclamation District No. 770, CVP, California: Long-term Warren Act contract for conveyance of up to 300,000 acre-feet of non-project flood flows via the Friant-Kern Canal for flood control purposes. A contract with a 5-year term was executed on February 10, 2017.

20. Goleta WD, Cachuma Project, California: An agreement to transfer title of the federally owned distribution system to the Goleta WD subject to approved legislation. Contract executed on September 2019.

Lower Colorado Basin—Interior Region 8: Bureau of Reclamation, P.O. Box 61470 (Nevada Highway and Park Street), Boulder City, Nevada 89006-1470, telephone 702-293-8192.

New contract actions:

14. Ehrenberg Improvement District, BCP, Arizona: Assign Ehrenberg Improvement Association's Colorado River water delivery contract No. 8-07-30-W0006, as amended, for 650 acre-feet of water per year, to the district.

15. Western Water, LLC and Ehrenberg Improvement District, BCP, Arizona: Review and approve a proposed partial assignment and transfer of Arizona fourth-priority Colorado River water in the amount of 85 acre-feet of water per year from Western Water to the district, amend Western Water's Colorado River water delivery contract No. 16-XX-30-W0619 to decrease its Colorado River water entitlement by 85 acre-feet of water per year from 621.48 to 536.48 acre-feet of water per year, and amend the district's Colorado River water delivery contract No. 8-07-30-W0006 to increase the district's Colorado River water entitlement by 85 acre-feet of water per year from 650 to 735 acre-feet of water per year.

Completed contract actions:

3. Bard WD, Yuma Project, California: Consolidate Bard WD's O&M contracts for the Yuma Project, California, Reservation Division, Indian and Bard Units, to reflect updated Reclamation policy and procedures. Contract executed on May 28, 2019.

10. San Carlos Apache and Pascua Yaqui Tribes, CAP, Arizona: Execute a CAP water lease for the San Carlos Apache Tribe to lease 1,750 acre-feet of its CAP water to the Pascua Yaqui Tribe during calendar year 2019. Lease executed on May 6, 2019.

11. San Carlos Apache Tribe and the Town of Gilbert, CAP, Arizona: Execute a proposed 100-year lease not to exceed 5,925 acre-feet per year of CAP water from the Tribe to Gilbert. Lease executed June 12, 2019.

12. San Carlos Apache Tribe and Freeport Minerals Corporation, CAP, Arizona: Execute a CAP water lease for the San Carlos Apache Tribe to lease 17,000 acre-feet of its CAP water to Freeport Minerals Corporation during calendar year 2019. Lease executed May 6, 2019.

Upper Colorado Basin—Interior Region 7: Bureau of Reclamation, 125 South State Street, Room 8100, Salt Lake City, Utah 84138-1102, telephone 801-524-3864.

New contract actions:

28. Bostwick Park Water Conservancy District, Bostwick Park Project, Colorado: Preliminary lease and funding agreement for development of the lease of power privilege for hydropower development on the Silver Jack Dam Bypass Pipeline. The purpose of this agreement is to receive funding from the district for Reclamation's assistance in the development of the lease of power privilege and identify timelines for the process.

29. Emery Water Conservancy District, Emery Project, Utah: The district is pursuing title transfer efforts for all of the Emery Project works including the dams, diversion facilities, conveyance facilities, and water rights. Reclamation and the district are discussing a memorandum of agreement to outline roles in this effort.

30. Fort Sumner ID, Carlsbad Project, New Mexico: Reclamation is pursuing negotiations with the district to contract with Reclamation with the intent that the district would refrain from calling for up to 3,500 acre-feet of water annually under its water right and make it available to Reclamation for storage in Sumner Reservoir for the purpose of maximizing the quantity of water available to the Carlsbad Project.

Missouri Basin—Interior Region 5: Bureau of Reclamation, P.O. Box 36900, Federal Building, 2021 4th Avenue North, Billings, Montana 59101, telephone 406-247-7752.

New contract actions:

35. Webster ID No. 4; Solomon Division, P-SMBP; Kansas: Consideration of a repayment contract for XM and replacement funded pursuant to Subtitle G of Pub. L. 111-11.

36. Canyon Limited Liability; Boysen Unit, P-SMBP; Wyoming: Consideration for renewal of contract No. 009E6A0035.

37. North Dakota State Water Commission, Snake Creek Pumping Plant, North Dakota: Consideration for a use-of-facilities contract.

38. Goshen ID, North Platte Project: EXM and replacement contract funded pursuant to Subtitle G of Pub. L. 111-11 for work on the Fort Laramie Canal and Tunnels.

39. Garfield County, Colorado; Ruedi Reservoir, Fryingpan-Arkansas Project; Colorado: Consideration for amendment to contract No. 139D6C0105 for an additional place of use.

40. Ainsworth ID; Ainsworth Unit, P-SMBP; Nebraska: Amendment of contract No. 17SD630055 for SOD modification costs associated with Merritt Dam.

41. Lugert-Altus ID, W.C. Austin Project, Oklahoma: Consideration for amendment to contract No. Ilr-1375.

42. Ptarmigan Partners, LLC and Christine-Elliot Armstrong Revocable Trust and Andrew W. Armstrong Revocable Trust, Shoshone Project, Cody, Wyoming: Consideration for amendment to contract No. 019E6A0227.

Completed contract actions:

16. Glen Elder ID No. 8; Glen Elder Unit, P-SMBP; Kansas: Consideration to renew long-term water service contract No. 2-07-60-W0855. Contract executed March 12, 2019.

21. Town of Thermopolis; Boysen Unit, P-SMBP; Wyoming: Consideration for renewal of long-term water service contract No. 8-07-WS050. Contract executed on May 13, 2019.

26. Southeastern Colorado Water Conservancy District Acting by and through its Water Activity Enterprise, Fryingpan-Arkansas Project, Colorado: Consideration to amend Pueblo Lease of Power Privilege contract No. 17XX650016. Contract executed on March 25, 2019.

38. Goshen ID, North Platte Project: EXM and replacement contract funded pursuant to Subtitle G of Pub. L. 111-11 for work on the Fort Laramie Canal and Tunnels. Contract executed August 26, 2019.

40. Ainsworth ID; Ainsworth Unit, P-SMBP; Nebraska: Amendment of contract No. 17SD630055 for SOD modification costs associated with Merritt Dam. Contract executed on July 15, 2019.

Discontinued contract action:

8. Busk-Ivanhoe, Inc., Fryingpan-Arkansas Project, Colorado: Contract for long-term carriage and storage, and/or a new contract for an additional use of water.

Gayle Kunkel-Shields,
Acting Director, Policy and Administration.

[FR Doc. 2019-27140 Filed 12-16-19; 8:45 am]

BILLING CODE 4332-90-P